DEPARTMENT OF LABOR

Employment and Training Administration

Solicitation for Grant Applications (SGA); Older Americans Act—Senior Community Service Employment Program (SCSEP) National Grants for Program Year 2006; SGA/DFA-PY 05-06

AGENCY: Employment and Training Administration (ETA), Labor.

ACTION: Notice; Amendment 2 to SGA/DFA-PY 05-06.

SUMMARY: The Employment and Training Administration published a document in the Federal Register on March 2, 2006 at 71 FR 10797, announcing the availability of funds and solicitation for grant applications (SGA) for the national grants portion of the Senior Community Service Employment Program. The Department amended the SGA to allow an extension of the application deadline, which was published in the Federal Register on April 7, 2006 at 71 FR 17922. This notice is the second amendment to the SGA, and it amends the SGA in several respects.

DATES: This notice is effective on April 17, 2006.

FOR FURTHER INFORMATION CONTACT: James W. Stockton, Grant Officer, Division of Federal Assistance, Telephone (202) 693-3335. (This is not a toll-free number.)

SUPPLEMENTARY INFORMATION: The Department of Labor published a notice to the SCSEP SGA (SGA/DFA-PY 05-06) at 71 FR 10797 in an April 7, 2006 Federal Register Notice (71 FR 17922). The Department extended the deadline for applications with a notice published in the Federal Register on April 7, 2006 at 71 FR 17922. The first amendment to the SGA, a correction to Appendix K, was published in the Federal Register on March 26, 2006 at 71 FR 15768. As a result, several additional date changes must also be amended. In addition, through this notice, the Department is also amending other sections of the SCSEP SGA to exclude certain requirements for organizations applying under the Asian and Pacific Islander or Indian funding categories. The SGA and associated Federal Register notices can be viewed on the http://www.doleta.gov/seniors Web site. The following additional amendments are made to the SCSEP SGA that was published on March 2, 2006 at 71 FR 10797:

(1) Section I “Funding Opportunity Description” (page 10799) is amended to read:

Right of first refusal. Under this solicitation, all successful applicants must allow the current participants to remain in the program under the same conditions in which they are found in order to minimize disruptions to the program. Therefore, although participants may not elect to remain under a former grantee, they must be able to continue community service work-based training with the same host agency for a minimum of 90 days beginning on August 1, 2006.

(2) Section II “Award Information-Type of Assistance Instrument” (page 10800) is amended to change the grant period from “an initial one year grant” to “an initial eleven (11) month grant.” The Department will allocate the full appropriation available for national grantees.

(3) Section II(B)(2) “Minimum Request for Funding” (page 10800) is amended to insert the following paragraph after the fourth paragraph:

Organizations applying under the Asian and Pacific Islander or Indian funding categories are exempt from the minimum funding requirement to apply for 10 percent or $1.6 million of the amount allocated in a state. Organizations applying under these categories are also exempt from the provision that requires applicants to apply for all of the positions allocated in a county and the provision that requires applicants to apply for contiguous locations. However, the Department believes that it becomes increasingly difficult to provide program oversight and the attendant fiduciary duties if applicants under these categories bid for less than 80 positions.

(4) Section II(C) “Period of Performance” (page 10801) is amended to change the start date of the program from July 1, 2006 to August 1, 2006. In addition, this section is amended to change the initial period of performance from “one (1) year” to “eleven (11) months.”

(5) Section III(A)(4) “Eligible Applicants/Other Useful Information” (page 10801) is amended to include the following sentence after the second sentence:

Asian and Pacific Islander or Indian organizations that apply under the General (“G”) funding category are not exempt from any of the SGA funding requirements described in section II, “Award Information.”

(6) Section III(C) “Ineligible Applicants” (page 10802) is amended to add paragraph (6), which reads as follows:

Asian and Pacific Islander or Indian organizations that apply under the General (“G”) funding category and fail to meet the funding requirements described in section II that apply to all applicants that apply under that category.

(7) Section IV(B)(2) “Requirements for the Cost Proposal” (page 10803) is amended in the “note” at the end of Section to change the cost proposal coverage from “one (1) year” of program operations to “eleven (11) months” of program operations.

(8) Section IV(E) “Funding Restrictions” (page 10803) is amended by adding the following sentence to the end of the paragraph:

Please note that organizations applying under the Asian Pacific Islander or Indian funding categories are exempt from this requirement.

(9) Section VI(A) “Award Notices” (page 10807) is amended in the first two sentences to read as follows:

The Department anticipates completing its review and ranking of proposals by late June 2006. The Grant Officer expects to announce the results of this competition no later than mid-July 2006.

(10) Section VIII(C) “Questions about the Program or SGA” (page 10808) amends the fifth sentence to change the length of time that questions will be received from “one month” to “two months” after publication. Therefore, the Department will accept and respond to questions that are received up to and including May 2, 2006. The Department will not respond to questions received after that deadline. Applicants are urged to frequently check the Question and Answer section at http://www.doleta.gov/seniors/SGA/SGA_QA.cfm. The Department also re-emphasizes that questions must be submitted to the Grant Officer and not to the program staff.

(11) Section VIII(D) “Post-Selection Negotiations and Requirements” (page 10808) is amended in the last sentence at the end of the first paragraph to change the date that the Grant Officer expects to negotiate final slot assignments from “the end of May” to “mid-July.”

(12) Section VIII(E) “Transition of Participants” (page 10808) is amended as follows:

The first sentence is amended to change the transition period from “June 1-June 30, 2006” to “August 1-September 30, 2006.”

The fourth sentence in the first paragraph on the required time a participant must remain in the same host agency from “for up to 90 days” to “for a minimum of 90 days.”

The second sentence in the third paragraph on the grantee payroll responsibility date is changed from “July 1, 2006” to “October 1, 2006.” Therefore, successful applicants may plan to make the first payment to participants in the first or second week of October 2006.

(13) Section VIII(F) “Transition Roles and Responsibilities” is amended as follows:

On page 10808, the second sentence on the national SCSEP orientation and training conference is amended to change the estimated date of the conference from “mid-June” to “early August.”

On page 10809, the second requirement for national grantees is amended to change the host agency requirement from “for up to 90 days” to “a minimum of 90 days.”

Signed in Washington, DC, this 13th day of April, 2006.
James W. Stockton,
Grant Officer.

[FR Doc. 06-3671 Filed 4-14-06; 8:45 am]

BILLING CODE 4510-30-P